DEPARTMENT OF COMMERCE

National Oceanic and Atmospheric Administration

[RTID 0648-XB378]

North Pacific Fishery Management Council; Public Meeting

AGENCY: National Marine Fisheries Service (NMFS), National Oceanic and Atmospheric Administration (NOAA), Commerce.

ACTION: Notice of web conference.

SUMMARY: The North Pacific Fishery Management Council (Council) Partial Coverage Fishery Monitoring Advisory Committee (PCFMAC) will meet September 17, 2021.

DATES: The meeting will be held on Friday, September 17, 2021, from 8:30 a.m. to 4:30 p.m. Alaska Time.

ADDRESSES: The meeting will be a web conference. Join online through the link at https://meetings.npfmc.org/Meeting/Details/2374.

Council address: North Pacific Fishery Management Council, 1007 W 3rd Ave., Anchorage, AK 99501-2252; telephone: (907) 271-2809. Instructions for attending the meeting are given under SUPPLEMENTARY INFORMATION, below.

FOR FURTHER INFORMATION CONTACT: Sara Cleaver, Council staff; phone: (907) 271-2809 and email: sara.cleaver@noaa.gov. For technical support, please contact administrative Council staff, email: npfmc.admin@noaa.gov.

SUPPLEMENTARY INFORMATION:

Agenda

Friday, September 17, 2021

The PCFMAC agenda will include: (a) Reviewing the draft 2022 Annual Deployment Plan and budget update; (b) status update on the partial coverage integrated analysis work plan; (c) an update on observer provider labor issues; (d) public comment; and (e) other business. The agenda is subject to change, and the latest version will be posted at https://meetings.npfmc.org/Meeting/Details/2374 prior to the meeting, along with meeting materials.

Connection Information

You can attend the meeting online using a computer, tablet, or smartphone; or by phone only. Connection information will be posted online at: https://meetings.npfmc.org/Meeting/Details/2374.

Public Comment

Public comment letters will be accepted and should be submitted electronically to https://meetings.npfmc.org/Meeting/Details/2374.

Authority: 16 U.S.C. 1801 et seq.

Dated: August 31, 2021.
Tracey L. Thompson,
Acting Deputy Director, Office of Sustainable Fisheries, National Marine Fisheries Service.

[FR Doc. 2021-19092 Filed 9-2-21; 8:45 am]

BILLING CODE 3510-22-P